DEPARTMENT OF THE TREASURY

Submission for OMB Review; Comment Request

January 7, 2013.

The Department of the Treasury will submit the following information collection request to the Office of Management and Budget (OMB) for review and clearance in accordance with the Paperwork Reduction Act of 1995, Public Law 104-13, on or after the date of publication of this notice.

DATES: Comments should be received on or before February 11, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-1442.

Type of Review: Extension without change of a currently approved collection.

Title: T.D. 8633—Grantor Trust Reporting Requirements.

Abstract: The information required by these regulations is used by the Internal Revenue Service to ensure that items of income, deduction, and credit of a trust as owned by the grantor or another person are properly reported.

Affected Public: Private Sector: Businesses or other for-profits.

Estimated Total Burden Hours: 920,000.

OMB Number: 1545-1826.

Type of Review: Extension without change of a currently approved collection.

Title: Excise Tax on Structured Settlement Factoring Transactions.

Form: 8876.

Abstract: Form 8876 is used to report and pay the 40 percent excise tax imposed under § 5891 on the factoring discount of a structured settlement factoring transaction.

Affected Public: Private Sector: Businesses or other for-profits.

Estimated Total Burden Hours: 500.

OMB Number: 1545-2010.

Type of Review: Extension without change of a currently approved collection.

Title: Employer's Annual Federal Tax Return (American Samoa, Guam, the Commonwealth of the Northern Mariana Islands, and the U.S. Virgin Islands).

Form: 944-SS; 944-PR.

Abstract: Form 944-SS and Form 944-PR are designed so the smallest employers (those whose annual liability for social security and Medicare taxes is $1,000 or less) will have to file and pay these taxes only once a year instead of every quarter.

Affected Public: Private Sector: Businesses or other for-profits.

Estimated Total Burden Hours: 191,200.

Dawn D. Wolfgang,
Treasury PRA Clearance Officer.

[FR Doc. 2013-00365 Filed 1-10-13; 8:45 am]

BILLING CODE 4830-01-P